DEPARTMENT OF ENERGY

Federal Energy Regulatory Commission

[Docket Nos. RP95-197-042 and RP97-71-034]

Transcontinental Gas Pipe Line Corporation; Notice of Compliance Filing

September 5, 2002.

Take notice that on August 30, 2002 Transcontinental Gas Pipe Line Corporation (Transco) tendered for filing as part of to its FERC Gas Tariff, Third Revised Volume No. 1, certain revised tariff sheets listed in Appendix A attached to the filing.

Transco states that the purpose of the limited Natural Gas Act (NGA) Section 4 filing is to revise its rates in Docket No. RP01-245-000 to implement the roll-in of the costs of Transco's Leidy Line and Southern expansion projects as authorized by the various Commission orders in Transco's Docket Nos. RP95-197 and RP97-71 proceeding, and to comply with the Commission's finding in that proceeding under NGA Section 5 that Transco must unbundle the cost of its Emergency Eminence Storage Withdrawal Service.

Transco states that copies of the filing are being mailed to all parties in Docket Nos. RP95-197, RP97-71 and RP01-245-000 and interested State Commissions.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. The Commission strongly encourages electronic filings. See, 18 CFR 385.2001(a)(1)(iii) and the instructions on the Commission's Web site under the “e-Filing” link.

Linwood A. Watson, Jr.,
Deputy Secretary.

[FR Doc. 02-23156 Filed 9-17-02; 8:45 am]

BILLING CODE 6717-01-P